DEPARTMENT OF HEALTH AND HUMAN SERVICES

National Institutes of Health

Office of the Director, Notice of Charter Renewal

In accordance with Title 41 of the U.S. Code of Federal Regulations, Section 102-3.65(a), notice is hereby given that the charter for the National Center for Advancing Translational Sciences Council (NCATSC or Council) is being renewed for an additional two-year period on February 7, 2026. It is determined that the Council is in the public interest in connection with the performance of duties imposed on the National Institutes of Health by law, and that these duties can best be performed through the advice and counsel of this group.

The Public Interest Determination follows:

Annual budget and expected costs. The estimated annual costs to operate the Council include the following:

i. Federal personnel (based on full-time equivalent (FTE) usage basis) and other Federal internal costs. The estimated annual person years of staff support required is 1.0, at an estimated annual cost of $255,456. The estimate for other Federal internal costs is $4,242.

ii. Proposed payments to members and number of members. The estimated payments for three non-Federal members is $2,400; the estimated prorated salary of three Federal members is $2,244.

iii. Reimbursable costs. The estimate for reimbursable costs, including members' travel expenses, is $18,221.

Total dollar value of grants expected to be recommended during the fiscal year.

In fiscal year 2025, the Council reviewed 3,525 grant applications in the amount of $6,798,714,682. In addition, the Council reviewed 26 contract proposals in the amount of $94,834,948.

Criteria for selecting members. The Council will consist of not more than 18 members appointed by the Secretary (appointed members) and the following nonvoting ex officio members: the Secretary; the Director, NIH; the Director, NCATS; a representative from the Centers for Medicare and Medicaid Services; a representative from the Food and Drug Administration; and any additional officers or employees of the Department of Health and Human Services as the Secretary determines necessary for the Council to effectively carry out its functions. Two-thirds of the appointed members will be selected from among the leading representatives of the health and scientific disciplines (including not less than two individuals who are leaders in the fields of public health and the behavioral or social sciences) relevant to the activities of the NCATS. One-third of the appointed members will be appointed by the Secretary from the general public and will include leaders in the fields of public policy, law, health policy, economics, and management.

List of all other Federal advisory committees of the agency. The National Institutes of Health has the following eight discretionary committees subject to renewal under 41 CFR 102-3.55(a), which address a broad spectrum of scientific activities:

• Advisory Committee to the Director, National Institutes of Health

• Clinical Center Research Hospital Board

• Fogarty International Center Advisory Board

• National Cancer Institute Clinical Trials and Translational Research Advisory Committee

• National Toxicology Program Board of Scientific Counselors

• National Toxicology Program Special Emphasis Panel

• Sickle Cell Disease Advisory Committee

Justification. The NCATSC is needed to review applications for grants and cooperative agreements for research and training and recommend approval of applications for projects which show promise of making valuable contributions to human knowledge. The NCATSC reviews any grant, contract, or cooperative agreement proposed to be made or entered into by the Center; may collect, by correspondence or by personal investigation, information as to studies which are being carried on in the United States or any other country as to the diseases, disorders, or other aspects of human health with respect to which the Center was established and, with the approval of the Director of NCATS, make available such information through appropriate publications for the benefit of public and private health entities, health professions personnel and scientists, and for the information of the general public. In fiscal year 2025 the Council reviewed 3,525 grant applications in the amount of $6,798,714,682. In addition, the Council reviewed 26 contract proposals in the amount of $94,834,948.

Inquiries may be directed to Patricia Brandt Hansberger, Acting Director, Office of Federal Advisory Committee Policy, Office of the Director, National Institutes of Health, 6701 Democracy Boulevard, Suite 1000, Bethesda, Maryland 20892 (Mail code 4875), Telephone (301) 496-2123, or patricia.hansberger@nih.gov.

Dated: January 30, 2026.
David W. Freeman,
Supervisory Program Analyst, Office of Federal Advisory Committee Policy.

[FR Doc. 2026-02205 Filed 2-2-26; 8:45 am]

BILLING CODE 4140-01-P